DEPARTMENT OF THE TREASURY

Submission for OMB Review; Comment Request

December 24, 2009.

The Department of the Treasury will submit the following public information collection requirement to OMB for review and clearance under the Paperwork Reduction Act of 1995, Public Law 104-13 on or after the date of publication of this notice. Copies of this submission may be obtained by calling the Treasury Bureau Clearance Officer listed. Comments regarding this information collection should be addressed to the OMB reviewer listed and to the Treasury PRA Clearance Officer, Department of the Treasury, 1750 Pennsylvania Avenue, NW., Suite 11010, Washington, DC 20220.

Dates: Written comments should be received on or before February 1, 2010 to be assured of consideration.

Internal Revenue Service (IRS)

OMB Number: 1545-0115.

Type of Review: Extension of a currently approved collection.

Title: Miscellaneous Income.

Form: 1099-MISC.

Description: Form 1099-MISC is used by payers to report payments of $600 or more of rents, prizes and awards, medical and health care payments, nonemployee compensation, and crop insurance proceeds, $10 or more of royalties, any amount of fishing boat proceeds, certain substitute payments, golden parachute payments, and an indication of direct sales of $5,000 or more.

Respondents: Businesses or other for-profits.

Estimated Total Burden Hours: 24,639,062 hours.

OMB Number: 1545-0160.

Type of Review: Extension of a currently approved collection.

Title: Annual Information Return of Foreign Trust With a U.S. Owner.

Form: 3520-A.

Description: Section 6048(b) requires that foreign trusts with at least one U.S. beneficiary must file an annual information return on Form 3520-A. The form is used to report the income and deductions of the foreign trust and provide statements to the U.S. owners and beneficiaries. IRS uses Form 3520-A to determine if the U.S. owner of the trust has included the net income of the trust in it's gross income.

Respondents: Individuals and Households.

Estimated Total Burden Hours: 21,700 hours.

OMB Number: 1545-0231.

Type of Review: Revision of a currently approved collection.

Title: Credit for Alcohol Used as Fuel.

Form: 6478.

Description: IRC section 38(b)(3) allows a nonrefundable income tax credit for businesses that sell or use alcohol. Small ethanol producers also receive a nonrefundable credit for production of qualified ethanol. Form 6478 is used to figure the credits.

Respondents: Businesses or other for-profits.

Estimated Total Burden Hours: 23,793 hours.

OMB Number: 1545-1181.

Type of Review: Extension of a currently approved collection.

Title: Required Payment or Refund Under Section 7519.

Form: 8752.

Description: This form is used to verify that partnerships and S corporations that have made a section 444 election have correctly reported the payment required under section 7519.

Respondents: Businesses or other for-profits.

Estimated Total Burden Hours: 565,920 hours.

OMB Number: 1545-2014.

Type of Review: Extension of a currently approved collection.

Title: TD 9452; Application of Separate Limitations to Dividends from Non-controlled Section 902 Corporations.

Description: The American Jobs Creation Act of 2004 amended the foreign tax credit treatment of dividends from non-controlled section 902 corporations effective for post 2002 tax year and the GOZA permitted taxpayers to elect to defer the effective date of these amendments until post 2002 tax years. These regulations require a taxpayer making the GOZA election to file a statement to such effect with its next tax return, and they require certain shareholders wishing to make tax elections on behalf of their controlled foreign corporations or non-controlled section 902 corporations to execute a joint consent (that is retained by one shareholder) and attach a statement to the company's return.

Respondents: Businesses or other for-profits.

Estimated Total Burden Hours: 25 hours.

OMB Number: 1545-2019.

Type of Review: Extension of a currently approved collection.

Title: TD 9451—Guidance Necessary to Facilitate Business Election Filing; Finalization of Controlled Group Qualification Rules (TD 9329).

Description: This document contains a final regulation that provides guidance to taxpayers for determining which corporations are included in a controlled group of corporations. This regulation is being published to replace an expiring temporary regulation.

Respondents: Businesses or other for-profits.

Estimated Total Burden Hours: 262,500 hours.

OMB Number: 1545-2147.

Type of Review: Extension of a currently approved collection.

Title: RP 2009-37—Internal Revenue Code Section 108(i) Election.

Description: The law allows taxpayers to defer for 5 years taxation of certain income arising in 2009 or 2010. Taxpayers then must include the deferred amount in income ratably over 5 years. The election statement advises that a taxpayer makes the election and the election and information statements provide information necessary to track the income. Respondents are C corporations and other persons in a business that reacquire debt instruments. This revenue procedure provides the exclusive procedures for taxpayers to make an election to defer recognizing discharge of indebtedness income (cancellation of debt, or COD income) under § 108(i) of the Internal Revenue Code.

Respondents: Businesses or other for-profits.

Estimated Total Burden Hours: 300,000 hours.

OMB Number: 1545-2148.

Type of Review: Extension of a currently approved collection.

Title: Form 8928—Return of Certain Excise Taxes Under Chapter 43 of the Internal Revenue Code.

Form: 8928.

Description: Form 8928 is used by employers, group health plans, HMOs, and third party administrators to report and pay excise taxes due for failures under sections 4980B, 4980D, 4980E, and 4980G.

Respondents: Businesses or other for-profits.

Estimated Total Burden Hours: 2,348 hours.

OMB Number: 1545-2150.

Type of Review: Extension of a currently approved collection.

Title: NOT-1114195-09, Manufacturers' Certification of Specified Plug-in Electric Vehicles.

Description: The American Recovery and Reinvestment Act of 2009 provides, under § 30 of the Internal Revenue Code, a credit for certain new specified plug-in electric drive vehicles. This notice provides procedures for a vehicle manufacturer to certify to the IRS that a vehicle meets the statutory requirements for the credit, and to certify the amount of the credit available with respect to the motor vehicle. The notice also provides guidance to taxpayers who purchase motor vehicles regarding the conditions under which they may rely on the vehicle manufacturer's certification.

Respondents: Businesses or other for-profits.

Estimated Total Burden Hours: 250 hours.

Clearance Officer: R. Joseph Durbala (202) 622-3634, Internal Revenue Service, 1111 Constitution Avenue, NW., Room 6129, Washington, DC 20224.

OMB Reviewer: Shagufta Ahmed (202) 395-7873, Office of Management and Budget, Room 10235, New Executive Office Building, Washington, DC 20503.

Celina Elphage,
Treasury PRA Clearance Officer.

[FR Doc. E9-31059 Filed 12-30-09; 8:45 am]

BILLING CODE 4830-01-P